DEPARTMENT OF HOMELAND SECURITY

Coast Guard

[Docket No. USCG-2012-0981]

Merchant Marine Personnel Advisory Committee: Intercessional Meeting

AGENCY: Coast Guard, DHS.

ACTION: Notice of Federal Advisory Committee Working Group Meeting.

SUMMARY: A working group of the Merchant Marine Personnel Advisory Committee (MERPAC) will meet to work on Task Statement 71 concerning review of the Knowledge, Understanding and Proficiency (KUP) tables for deck and engineer officers listed in the International Convention on Standards of Training, Certification and Watchkeeping for Seafarers, 1978 as amended, for alignment with the Coast Guard examination topic tables. This meeting will be open to the public.

DATES: A MERPAC working group will meet on December 5, 2012, and December 6, 2012, from 8 a.m. until 4 p.m. Please note that the meeting may adjourn early if all business is finished. Written comments to be distributed to working group members and placed on MERPAC's Web site are due by November 26, 2012.

ADDRESSES: The working group will meet at the Jemal Building, U.S. Coast Guard Headquarters, Room 09-1419, 1900 Half Street, Washington, DC, 20593. Attendees will be required to provide a picture identification card and pass through a magnetometer in order to gain admittance to the Jemal Building. Visitors should also arrive at least 30 minutes in advance of the meeting in case of long lines at the entrance.

For further information about the Coast Guard facilities or services for individuals with disabilities or to request special assistance, contact Mr. Rogers Henderson at (202) 372-1408 or rogers.w.henderson@uscg.mil.

To facilitate public participation, we are inviting public comment on the issues to be considered by the work group, which are listed in the “Agenda” section below. Written comments must be identified by Docket No. USCG-2012-0981 and may be submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov.

This notice may be viewed in our online docket, USCG-2012-0981, at http://www.regulations.gov.

FOR FURTHER INFORMATION CONTACT: Mr. Rogers Henderson, Alternate Designated Federal Officer of MERPAC, telephone 202-372-1408. If you have any questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463).

MERPAC is an advisory committee authorized under section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to personnel in the U.S. merchant marine, including but not limited to training, qualifications, certification, documentation, and fitness standards. The Committee advises, consults with, and makes recommendations reflecting its independent judgment to the Secretary.

Agenda

Day 1

The agenda for the December 05, 2012, working group meeting is as follows:

(1) Review the knowledge, understanding and proficiency (KUP) guidelines for operational level deck and engineer officers listed in the International Convention on Standards of Training, Certification and Watchkeeping for Seafarers, 1978 as amended (STCW), and submit recommendations and comments as to which of these are not covered by the examination topics found in the subject lists for deck and engine officer examinations, found in Title 46 Code of Federal Regulations § 11.910 and Table 11.950;

(2) Public comment period;

(3) Discuss and prepare proposed recommendations for the full committee to consider with regards to Task Statement 71, concerning review of the “STCW Code Knowledge, Understanding and Proficiency tables for alignment with the Coast Guard examination topic tables”; and

(4) Adjournment of meeting.

Day 2

The agenda for the December 06, 2012, working group meeting is as follows:

(1) Continue discussion on proposed recommendations;

(2) Public comment period;

(3) Discuss and prepare final recommendations for the full committee to consider with regards to Task Statement 71, concerning review of the “STCW Code Knowledge, Understanding and Proficiency tables for alignment with the Coast Guard examination topic tables”; and

(4) Adjournment of meeting.

Procedural: A copy of all meeting documentation, including the Task Statement, is available at https://homeport.uscg.mil by using these key strokes: Missions; Port and Waterways Safety; Advisory Committees; MERPAC; and then use the event key. Alternatively, you may contact Mr. Henderson as noted in the ADDRESSES section above.

Public oral comment periods will be held during the working group meeting. Speakers are requested to limit their comments to 3 minutes. Please note that the public oral comment periods may end before the prescribed ending time following the last call for comments. Contact Rogers Henderson as indicated above to register as a speaker.

Dated: November 2, 2012.
F. J. Sturm,
Acting Director of Commercial Regulations and Standards.

[FR Doc. 2012-27250 Filed 11-6-12; 8:45 am]

BILLING CODE 9110-04-P